DEPARTMENT OF THE INTERIOR

Minerals Management Service

Agency Information Collection Activities: Submitted for Office of Management and Budget (OMB) Review; Comment Request

AGENCY: Minerals Management Service (MMS), Interior.

ACTION: Notice of an extension of an information collection (1010-0043).

SUMMARY: To comply with the Paperwork Reduction Act of 1995 (PRA), we are notifying the public that we will be submitting to OMB an information collection request (ICR) to renew approval of the paperwork requirements in the regulations under 30 CFR 250, subpart F, Oil and Gas Well-Workover Operations, and related documents. This notice also provides the public a second opportunity to comment on the paperwork burden of these regulatory requirements.

DATES: Submit written comments by November 1, 2007.

ADDRESSES: You may submit comments either by fax (202) 395-6566 or e-mail (OIRA_DOCKET@omb.eop.gov) directly to the Office of Information and Regulatory Affairs, OMB, Attention: Desk Officer for the Department of the Interior (1010-0043). Mail or hand carry a copy of your comments to the Department of the Interior; Minerals Management Service; Attention: Cheryl Blundon; Mail Stop 4024; 381 Elden Street; Herndon, Virginia 20170-4817. If you wish to e-mail your comments to MMS, the address is: rules.comments@mms.gov. Reference Information Collection 1010-0043 in your subject line and mark your message for return receipt. Include your name and return address in your message text.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR Part 250, Subpart F, Oil and Gas Well-Workover Operations.

OMB Control Number: 1010-0043.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 5(a) of the OCS Lands Act requires the Secretary to prescribe rules and regulations “to provide for the prevention of waste, and conservation of the natural resources of the Outer Continental Shelf, and the protection of correlative rights therein” and to include provisions “for the prompt and efficient exploration and development of a lease area.” These authorities and responsibilities are among those delegated to the Minerals Management Service (MMS) to ensure that operations in the OCS will meet statutory requirements; provide for safety and protection of the environment; and result in diligent exploration, development, and production of OCS leases.

This information collection request addresses the regulations at 30 CFR Part 250, subpart F, Oil and Gas Well-Workover Operations and the associated supplementary Notices to Lessees and Operators (NTLs) intended to provide clarification, description, or explanation of these regulations.

MMS District Supervisors use the information collected to analyze and evaluate planned well-workover operations to ensure that operations result in personnel safety and protection of the environment. They use this evaluation in making decisions to approve, disapprove, or to require modification to the proposed well-workover operations. For example, MMS uses the information to:

• Review log entries of crew meetings to verify that safety procedures have been properly reviewed.

• Review well-workover procedures relating to hydrogen sulfide (H2S) to ensure the safety of the crew in the event of encountering H2S.

• Review well-workover diagrams and procedures to ensure the safety of well-workover operations.

• Verify that the crown block safety device is operating and can be expected to function and avoid accidents.

• Verify that the proposed operation of the annular preventer is technically correct and will provide adequate protection for personnel, property, and natural resources.

• Verify the reasons for postponing blowout preventer (BOP) tests, verify the state of readiness of the equipment and to ascertain that the equipment meets safety standards and requirements, ensure that BOP tests have been conducted in the manner and frequency to promote personnel safety and protect natural resources. Specific testing information must be recorded to verify that the proper test procedures were followed.

• Assure that the well-workover operations are conducted on well casing that is structurally competent.

Responses are mandatory. No questions of a “sensitive” nature are asked. MMS will protect proprietary information according to 30 CFR 250.197, “Data and information to be made available to the public or for limited inspection”, and 30 CFR part 252, “OCS Oil and Gas Information Program”.

Frequency: The frequency varies by section, but is primarily monthly or on occasion.

Estimated Number and Description of Respondents: Approximately 130 Federal OCS oil and gas or sulphur lessees and operators.

Estimated Reporting and Recordkeeping “Hour” Burden: The estimated annual “hour” burden for this information collection is a total of 40,899 hours. The following chart details the individual components and estimated hour burdens. In calculating the burdens, we assumed that respondents perform certain requirements in the normal course of their activities. We consider these to be usual and customary and took that into account in estimating the burden.

Citation 30 CFR 250 | Reporting requirement | Hour burden | Average number of annual reponses | Annual burden hours
Requests
602 | Request exceptions prior to moving well-workover equipment | 1 | 400 requests | 400
605; 613; 615(a), (e)(4); 616(d) | Request approval to begin subsea well-workover operations; submit Forms MMS-124 (include, if required, alternate procedures and equipment; stump test procedures plan) and MMS-125 | Burden included in 1010-0141 |  | 0
612 | Request establishment/amendment/cancellation of field well-workover rules | 6 | 4 requests | 24
616(a) | Request exception to rated working pressure of the BOP equipment; request exception to annular-type BOP testing | 2 | 187 requests | 374
600-618 | General departure and alternative compliance requests not specifically covered elsewhere in subpart F regulations | 2 | 200 requests | 400 9
Subtotal |  |  | 791 | 1,198
Posting
614 | Post number of stands of drill pipe or workover string and drill collars that may be pulled prior to filling the hole and equivalent well-control fluid volume | 0.25 | 1,210 postings | 303
Subtotal |  |  | 1,210 | 303
Submittals/Notifications
602 | Notify MMS of any rig movement within Gulf of Mexico (Form MMS-144) | Burden included in 1010-0150 |  | 0
617(b) | Pressure test, caliper, or otherwise evaluate tubing & wellhead equipment casing; submit results (every 30 days during prolonged operations) | 6 | 182 reports | 1,092
617(c) | Notify MMS if sustained casing pressure is observed on a well | 1 | 905 notifications | 905
Subtotal |  |  | 1,087 | 1,997
Record/Document
606 | Instruct crew members in safety requirements of operations to be performed; document meeting (weekly for 2 crews × 2 weeks per workover = 4) | 1 | 1,476 workovers × 4 = 5,904 | 5,904
611 | Perform operational check of traveling-block safety device; document results (weekly × 2 weeks per workover = 2) | 1 | 1,226 workovers × 2 = 2,452 | 2,452
616(a), (b), (f), (g) | Perform BOP pressure tests, actuations, inspections & certifications; record results; retain records 2 years following completion of workover activities (when installed; at a minimum every 7 days × 2 weeks per workover = 2) | 7 | 1,226 workovers × 2 = 2,452 | 17,164
616(b)(2) | Test blind or blind-shear rams; document results (every 30 days during operations). (Note: this is part of BOP test when BOP test is conducted.) | 2 | 1,476 workovers | 2,952
616(b)(2) | Record reason for postponing BOP system tests | 0.5 | 146 post-poned tests | 73
616(c) | Perform crew drills; record results (weekly for 2 crews × 2 weeks per workover = 4) | 1.5 | 1,476 work-overs × 4 = 5,904 | 8,856
Subtotal |  |  | 18,334 | 37,401
Total Burden |  |  | 21,422 Responses | 40,899

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “ * * * to provide notice * * * and otherwise consult with members of the public and affected agencies concerning each proposed collection of information * * * ” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 23, 2007, we published a Federal Register notice (72 FR 2901) announcing that we would submit this ICR to OMB for approval. The notice provided the required 60-day comment period. In addition, § 250.199 provides the OMB control number for the information collection requirements imposed by the 30 CFR Part 250 regulations. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by November 1, 2007.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: June 1, 2007.
William S. Hauser,
Acting Chief, Office of Offshore Regulatory Programs.

Editorial Note: This document was received at the Office of the Federal Register on September 26, 2007.

[FR Doc. E7-19376 Filed 10-1-07; 8:45 am]

BILLING CODE 4310-MR-P